DEPARTMENT OF THE INTERIOR

National Park Service

[NPS-WASO-NAGPRA-18496; PPWOCRADN0-PCU00RP14.R50000]

Notice of Inventory Completion: Tennessee Valley Authority, Knoxville, TN

AGENCY: National Park Service, Interior.

ACTION: Notice.

SUMMARY: The Tennessee Valley Authority (TVA) has completed an inventory of human remains in consultation with the appropriate federally recognized Indian tribes and has determined that there is no cultural affiliation between the human remains and any present-day federally recognized Indian tribes. Representatives of any federally recognized Indian tribe not identified in this notice that wish to request transfer of control of these human remains should submit a written request to TVA. If no additional requestors come forward, transfer of control of the human remains to the federally recognized Indian tribe stated in this notice may proceed.

DATES: Representatives of any federally recognized Indian tribe not identified in this notice that wish to request transfer of control of these human remains should submit a written request with information in support of the request to TVA at the address in this notice by September 4, 2015.

ADDRESSES: Dr. Thomas O. Maher, TVA, 400 West Summit Hill Drive, WT11D, Knoxville, TN 37902-1401, telephone (865) 632-7458, email tomaher@tva.gov.

SUPPLEMENTARY INFORMATION: Notice is here given in accordance with the Native American Graves Protection and Repatriation Act (NAGPRA), 25 U.S.C. 3003, of the completion of an inventory of human remains under the control and possession of TVA. The human remains were removed from site 40MI21, in Marion County, TN.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by TVA's professional staff in consultation with representatives of the Absentee Shawnee Tribe of Oklahoma; Alabama-Coushatta Tribe of Texas (previously listed as the Alabama-Coushatta Tribes of Texas); Alabama-Quassarte Tribal Town; Cherokee Nation; Eastern Band of Cherokee Indians; Eastern Shawnee Tribe of Oklahoma; Kialegee Tribal Town; Poarch Band of Creeks (previously listed as the Poarch Band of Creek Indians of Alabama); Shawnee Tribe; The Chickasaw Nation; The Muscogee (Creek) Nation of Oklahoma; The Seminole Nation of Oklahoma; Thlopthlocco Tribal Town; and the United Keetoowah Band of Cherokee Indians in Oklahoma.

History and Description of the Remains

Between 1964 and 1965, human remains representing, at minimum, two individuals were removed from site 40MI21, in Marion County, TN, by amateur archeologists following the building of Nickajack Dam. TVA has under its control and in its physical possession human remains from one adult male and one adult female. No known individuals were identified. No associated funerary objects are present.

Ernest A. Bachman and others removed 20 burials from site 40MI21 between 1964 and 1965 and reported on this in the Tennessee Archaeologist (Bachman 1966). Bachman indicated that an erosional trench was being cut through the site as a result of dredging, revealing human burials. Bachman states that some of the non-funerary ceramic artifacts were examined by the University of Tennessee and identified as representing Late Archaic (c. 3000-1000 B.C.) and Woodland (900 B.C.-A.D. 900) components.

Since no funerary objects accompanied the human remains under the control of TVA, it is not known if they were derived from the Late Archaic or the Woodland occupation. The lack of any detailed information on these human remains leads TVA to determine that they are culturally unidentifiable.

Determinations Made by the Tennessee Valley Authority

Officials of TVA have determined that:

• Pursuant to 25 U.S.C. 3001(9), the human remains described in this notice are Native American based on their presence in prehistoric archeological contexts.

• Pursuant to 25 U.S.C. 3001(9), the human remains described in this notice represent the physical remains of 2 individuals of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of the Cherokee Nation, Eastern Band of Cherokee Indians, and the United Keetoowah Band of Cherokee Indians in Oklahoma.

• Pursuant to 43 CFR 10.11(c)(1)(ii), TVA has decided to transfer control of the culturally unidentifiable human remains to the Cherokee Nation, Eastern Band of Cherokee Indians, and the United Keetoowah Band of Cherokee Indians in Oklahoma.

Additional Requestors and Disposition

Representatives of any federally recognized Indian tribe not identified in this notice that wish to request transfer of control of these human remains should submit a written request with information in support of the request to Dr. Thomas O. Maher, TVA, 400 West Summit Hill Drive, WT11D, Knoxville, TN 37902-1401, telephone (865) 632-7458, email tomaher@tva.gov, by September 4, 2015. After that date, if no additional requestors have come forward, transfer of control of the human remains to the Cherokee Nation, Eastern Band of Cherokee Indians, and the United Keetoowah Band of Cherokee Indians in Oklahoma may proceed.

TVA is responsible for notifying the Absentee Shawnee Tribe of Oklahoma; Alabama-Coushatta Tribe of Texas (previously listed as the Alabama-Coushatta Tribes of Texas); Alabama-Quassarte Tribal Town; Cherokee Nation; Eastern Band of Cherokee Indians; Eastern Shawnee Tribe of Oklahoma; Kialegee Tribal Town; Poarch Band of Creeks (previously listed as the Poarch Band of Creek Indians of Alabama); Shawnee Tribe; The Chickasaw Nation; The Muscogee (Creek) Nation of Oklahoma; The Seminole Nation of Oklahoma; Thlopthlocco Tribal Town; and the United Keetoowah Band of Cherokee Indians in Oklahoma that this notice has been published.

Dated: June 29, 2015.
Melanie O'Brien,
Manager, National NAGPRA Program.

[FR Doc. 2015-19267 Filed 8-4-15; 8:45 am]

BILLING CODE 4312-50-P